DEPARTMENT OF LABOR

Employment and Training Administration

[TA-W-60,456]

American Wood Dryers Incorporated, Clackamas, OR; Notice of Termination of Investigation

Pursuant to Section 221 of the Trade Act of 1974, as amended, an investigation was initiated on November 17, 2006 in response to a petition filed by a company official on behalf of workers of American Wood Dryers Incorporated, Clackamas, Oregon.

The petition regarding the investigation has been deemed invalid. The petitioner was not a company official, but was one dislocated worker. A petition filed by workers requires three (3) signatures. Consequently, the investigation has been terminated.

Signed at Washington, DC, this 30th day of November, 2006.
Linda G. Poole,
Certifying Officer, Division of Trade Adjustment Assistance.

[FR Doc. E6-20839 Filed 12-7-06; 8:45 am]

BILLING CODE 4510-30-P